DEPARTMENT OF THE INTERIOR

Bureau of Land Management

[LLNVSO0530.L51010000.ER0000.LVRWF09F8630; NVN-084465; 09-08807; TAS:14X5017]

Notice of Intent To Prepare an Environmental Impact Statement for the Proposed Pacific Solar Investments Inc., Amargosa North Solar Project, Nye County, NV

AGENCY: Bureau of Land Management, Interior.

ACTION: Notice of intent.

SUMMARY: In compliance with the National Environmental Policy Act (NEPA) of 1969, as amended, the Bureau of Land Management (BLM) Pahrump, Nevada Field Office intends to prepare an Environmental Impact Statement (EIS) for a right-of-way (ROW) application submitted by Pacific Solar Investments, Inc. for a solar energy generation project. By this notice, the BLM is announcing the beginning of the scoping process to solicit public input on the identification of issues.

DATES: Comments on this Notice of Intent may be submitted in writing until February 12, 2010. The date(s) and location(s) of any scoping meetings will be announced at least 15 days in advance through local media, newspapers, and the BLM Web site at: http://www.blm.gov/nv/st/en/fo/lvfo.html. In order to be considered by the BLM, comments must be received prior to the close of the scoping period or 15 days after the last public meeting, whichever is later. The BLM will provide additional opportunities for public participation upon publication of the Draft EIS.

ADDRESSES: You may submit comments related to the Proposed Pacific Solar Investments Inc., Amargosa North Solar Project by any of the following methods:

• E-mail: NorthSolar_Proj@blm.gov ;

• Fax: (702) 515-5010 (attention Gregory Helseth);

• Mail: Gregory Helseth, BLM Southern Nevada District Office, 4701 North Torrey Pines Drive, Las Vegas, Nevada 89130-2301;

• In person: At any EIS public scoping meeting.

Documents pertinent to this proposal may be examined at the BLM Southern Nevada District Office.

FOR FURTHER INFORMATION CONTACT: Gregory Helseth, Renewable Energy Project Manager, (702) 515-5173; or e-mail NorthSolar_Proj@blm.gov. You may also use this contact information to request that your name be added to the project mailing list.

SUPPLEMENTARY INFORMATION: Pacific Solar Investments Inc. has requested a ROW authorization for the construction, operation, maintenance, and termination of a solar energy generation project. The proposed project would consist of solar photovoltaic panels, including an electrical transmission substation and switchyard facilities. The proposed solar energy project would produce approximately 150 megawatts of electricity, and would be located on approximately 7,500 acres of public lands in the Amargosa Valley, Nye County, Nevada.

The purpose of the public scoping process is to ascertain the relevant issues that will influence the scope of the environmental analysis and guide the process for developing the EIS, including the development of alternatives. The BLM has preliminarily identified the following resource issues: Threatened and endangered species, visual resource impacts, recreation impacts, and socioeconomic effects.

The BLM will use and coordinate the NEPA commenting process to satisfy the public involvement requirements of Section 106 of the National Historic Preservation Act (16 U.S.C. 470f), as provided for in 36 CFR 800.2(d)(3). Native American Tribal consultations will be conducted and tribal concerns, including potential impacts on Indian trust assets, will be given due consideration. Federal, state, and local agencies, along with other stakeholders that may be interested in or affected by the BLM's decision on this project, are invited to participate in the scoping process. Federal, state, and local agencies may request or be asked by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Patrick Putnam,
Field Manager, Pahrump Field Office.

[FR Doc. E9-29697 Filed 12-11-09; 8:45 am]

BILLING CODE 4310-HC-P